INTERNATIONAL TRADE COMMISSION

[Investigation No. 731-TA-1733 (Final)]

Methylene Diphenyl Diisocyanate (MDI) From China; Revised Schedule for the Subject Proceeding

AGENCY: United States International Trade Commission.

ACTION: Notice.

DATES: November 20, 2025.

FOR FURTHER INFORMATION CONTACT: Lawrence Jones (202-205-3358), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective September 16, 2025, the Commission established a schedule for the conduct of the subject proceeding (90 FR 46253, September 25, 2025). Due to the lapse in appropriations and ensuing cessation of Commission operations, the Commission is revising its schedule as follows: the prehearing staff report will be placed in the nonpublic record on February 26, 2026; the deadline for filing prehearing briefs is March 5, 2026; requests to appear at the hearing must be filed with the Secretary to the Commission on March 6, 2026; a prehearing conference will be held on March 9, 2026, if deemed necessary; parties shall file and serve written testimony and presentation slides in connection with their presentation at the hearing by no later than noon on March 11, 2026; the hearing will be held at the U.S. International Trade Commission Building at 9:30 a.m. on March 12, 2026; the deadline for filing posthearing briefs and for written statements from any person who has not entered an appearance as a party is March 19, 2026; the Commission will make its final release of information on April 8, 2026; and final party comments are due on April 10, 2026.

For further information concerning this proceeding, see the Commission's notice cited above and the Commission's Rules of Practice and Procedure, part 201, subparts A and B (19 CFR part 201), and part 207, subparts A and C (19 CFR part 207).

Authority: This proceeding is being conducted under authority of title VII of the Tariff Act of 1930; this notice is published pursuant to section 207.21 of the Commission's rules.

By order of the Commission.
Issued: November 24, 2025.
Lisa Barton,
Secretary to the Commission.

[FR Doc. 2025-21214 Filed 11-25-25; 8:45 am]

BILLING CODE 7020-02-P